DEPARTMENT OF EDUCATION

[CFDA No. 84.344]

Office of Postsecondary Education, U.S. Department of Education; Inviting Applications for TRIO Dissemination Partnership Program New Awards for Fiscal Year (FY) 2000

Purpose of Program: The TRIO Dissemination Partnership (TRIO Dissemination) Program provides grants to TRIO Program grantees to enable them to work with institutions and organizations that are serving low-income and first-generation college students, but do not have TRIO Program grants. The purpose of the TRIO Dissemination Program is to replicate or adapt successful TRIO program components, practices, strategies, and activities for the institutions and organizations that are not TRIO Program grantees. The TRIO Programs are the Talent Search, Educational Opportunity Centers, Upward Bound, Student Support Services, McNair and Training Programs. For FY 2000, we encourage applicants to design projects that focus on the invitational priorities summarized in the priorities section of this application notice.

Eligible applicants: Institutions of higher education and private and public institutions and organizations that were carrying out a Federal TRIO grant before October 7, 1998, the date of enactment of the Higher Education Amendments of 1998.

Applications Available: March 17, 2000.

Deadline for Transmittal of Applications: May 15, 2000.

Deadline for Intergovernmental Review: July 14, 2000.

Available Funds: $5,000,000.

Estimated Range of Awards: $130,000 to $200,000 for Year 1 of the project period.

Estimated Average Size of Awards: $167,000.

Maximum Award: The Secretary will reject, without consideration or evaluation, an application that proposes a budget exceeding $200,000 for the Year 1 budget period. The Secretary may change the maximum amount through a notice published in the Federal Register.

Estimated Number of Awards: 25 to 30.

Note: The Department is not bound by any estimates in this notice.

Project Period: Up to 36 months.

Page Limit: Part III of the application, the application narrative, is where you, the applicant, address the selection criteria reviewers use in evaluating the application. You must limit Part III to the equivalent of no more than 75 pages, using the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet; Part II, the budget section, including the narrative budget justification; Part IV, the assurances and certification; or the one-page abstract, the resumes, the bibliography, or the letters of support. However, you must include all of the application narrative in Part III.

If, to meet the page limit, you use a larger page or smaller print size, spacing, or margins than the standards in this notice, we will not consider your application for funding.

Applicable Regulations: The Education Department General Administrative Regulations (EDGAR) in 34 CFR parts 74, 75, 77, 79, 82, 85, 86, 97, 98 and 99.

Priorities

Invitational Priorities: The Secretary is particularly interested in applications that meet one or more of the invitational priorities in the next six paragraphs. However, under 34 CFR 75.105(c)(1) an application that meets one or more of the invitational priorities does not receive competitive or absolute preference over other applications.

Invitational Priority 1—Effective Use of Educational Technology

Projects designed to share effective strategies for using technology in a variety of ways, including innovative technology-based instructional programs; use of technology to provide better access to educational opportunities; and technology-based programs to equip disadvantaged students with the knowledge and skills to compete for jobs in the emerging world economy that require the use of new and sophisticated technologies.

Invitational Priority 2—Business and Community Partnerships and K-12 Collaborations

Projects to assist communities with large numbers of low-income, first-generation college students to develop effective business and community partnerships and K-12 collaborations.

Invitational Priority 3—Program Evaluation and Assessments of Student Outcomes

Projects to assist institutions and agencies in using or adapting successful strategies for operating performance-based programs.

Invitational Priority 4—Access Retention, and College Completion

Projects to assist institutions and agencies that do not have TRIO grants in replicating or adapting effective access and retention strategies for low-income, first-generation and disabled students.

Invitational Priority 5—Increased Participation of Underrepresented Groups in Graduate Study

Projects designed to share successful TRIO strategies for increasing the access, retention, and completion rates of low-income and minority students in graduate study.

Invitational Priority 6—Advance the Awareness of Underserved Groups in the Benefits of TRIO Programs

Projects that develop partnerships with institutions and organizations serving Hispanic American and American Indian students, especially Hispanic Serving Institutions and Tribally Controlled Colleges and Universities, for the purpose of increasing access, retention and completion rates of these students in postsecondary education. The term “Hispanic Serving Institution” has the meaning given the term in Title V, section 502(a)(5) of the Higher Education Act of 1965, as amended (HEA). The term “Tribally Controlled College and University” has the meaning given the term in Title III, section 316(b)(3) of the HEA.

FOR FURTHER INFORMATION CONTACT: Eileen S. Bland, Office of Federal TRIO Programs, U.S. Department of Education, 400 Maryland Avenue, SW, Washington, DC 20202-8510. Telephone: (202) 502-7600. The e-mail addresses for Ms. Bland is: eileen_bland@ed.gov Individuals who use a telecommunications device for the deaf (TDD) may call the Federal Relay Service (FRS) at 1-800-877-8339.

Individuals with disabilities may obtain this document in an alternate format (e.g., Braille, large print, audiotape, or computer diskette) on request to the contact person listed in the preceding paragraph. Individuals with disabilities may obtain a copy of the application package in an alternate format, also, by contacting that person. However, the Department is not able to reproduce in an alternate format the standard forms included in the application package.

Technical Assistance Workshops: We will conduct seven technical assistance workshops for the Dissemination Partnership Program. At these workshops, Department of Education staff will assist prospective applicants in developing proposals and will provide budget information regarding this program. The technical assistance workshops will be held as follows:

1. Washington, DC: April 13, 2000, 9:00 a.m.-3:00 p.m., U.S. Department of Education, 400 Maryland Avenue, SW, Room 1E110, Washington, DC 20202. Contact: Venus Blount at (202) 502-7600.

2. New York: April 17, 2000, 9:00 a.m.-3:00 p.m., at John Jay College of Criminal Justice, 445 West 59th Street, North Hall, Room 1311 New York, New York 10019. Contact: Karen Texiera at (212) 237-8274.

3. San Diego: April 17, 2000, 9:00 a.m.-3:00 p.m., at San Diego State University, 55500 Campanile Drive, Student Services Building, Room 1500, San Diego, CA 92182. Contact: Gretchen Mitchell at (619) 594-6451.

4. Atlanta: April 19, 2000, 9:00 a.m.-3:00 p.m., at Morehouse College, 830 Westview Drive, SW, The Kilgore Center, Room 201-203, Atlanta, Georgia 30314-3773. Contact: Rubye Byrd at (404) 215-2671.

5. Denver: April 19, 2000, 9:00 a.m.-3:00 p.m., at Metropolitan State College at Denver, Auraria Campus, 900 Auraria Parkway, Tivoli Building, Suite 444, Denver, Colorado 80204. Contact: Steve Pordon at (303) 556-2812.

6. Miami: April 21, 2000, 9:00 a.m.-3:00 p.m., at Miami-Dade Community College, Wolfson Campus, 300 NE 2nd Avenue, Room 3202, Miami, FL 33132-2204. Contact: Bernice Belcher at (305) 237-0940.

7. San Antonio: April 21, 2000, 9:00 a.m.-3:00 p.m. at University of Texas at San Antonio, 6900 North Loop 1604 West, Business Building, University Room 2.06.04, San Antonio, Texas 78249-0654. Contact: Rita Cortez at (210) 458-5852.

This information is also available at the following web site: http://www.ed.gov/offices/OPE/HEP/trio/dissem/

Assistance to Individuals with Disabilities at the Technical Assistance Workshops

The technical assistance workshop sites are accessible to individuals with disabilities. If you will need an auxiliary aid or service to participate in the workshop (e.g., interpreting service, assistive listening device, or materials in an alternate format), notify the contact person listed in this notice at least two weeks before the scheduled workshop date. Although we will attempt to meet a request we receive after that date, we may not be able to make available the requested auxiliary aid or service because of insufficient time to arrange it.

For Applications Contact: Education Publications Center (ED Pubs), P.O. Box 1398, Jessup, MD 20794-1398. Telephone (toll free): 1-877-433-7827. Fax: (301) 470-1244. Individuals who use a telecommunications device for the deaf (TDD) may call (toll free): 1-877-576-7734.

You may also contact ED Pubs at its Web site: http://www.ed.gov/pubs/edpubs.html or at its e-mail address: edpubs@inet.ed.gov.

If you request an application from ED Pubs, be sure to identify this competition as follows: CFDA 84.344.

Electronic Access To This Document

You may view this document, as well as all other Department of Education documents published in the Federal Register, in text or Adobe Portable Document Format (PDF) on the Internet at either of the following sites:

http://ocfo.ed.gov/fedreg.htm

http://www.ed.gov/news/html

To use the PDF you must have the Adobe Acrobat Reader Program with Search, which is available free at either of the previous sites. If you have questions about using the PDF, call the U.S. Government Printing Office (GPO), toll free, at 1-888-293-6498, or in the Washington, DC area, at (202) 512-1530.

Note: The official version of this document is the document published in the Federal Register. Free Internet access to the official edition of the Federal Register and the Code of Federal Regulations is available on GPO Access at: http://www.access.gpo.gov/nara/index.html.

Program Authority: 20 U.S.C. 1070a-18

Dated: February 23, 2000.
Maureen McLaughlin,
Acting Assistant Secretary Office of Postsecondary Education.

[FR Doc. 00-4768 Filed 2-28-00; 8:45 am]

BILLING CODE 4000-01-U